DEPARTMENT OF THE INTERIOR

Fish and Wildlife Service

Endangered and Threatened Wildlife and Plants; 5-Year Review of the Bliss Rapids Snail

AGENCY: Fish and Wildlife Service, Interior.

ACTION: Notice of review.

SUMMARY: The U.S. Fish and Wildlife Service (“we”) announces a 5-year review of the Bliss Rapids snail (Taylorconcha serpenticola) under section 4(c)(2)(A) of the Endangered Species Act of 1973 (Act) (16 U.S.C. 1531 et seq.). The purpose of reviews conducted under this section of the Act is to ensure that the classification of species as threatened or endangered on the List of Endangered and Threatened Wildlife and Plants (List) is accurate.

We are requesting submission of the most current scientific and commercial information available on the Bliss Rapids snail since its original listing as a threatened species in 1992 (57 FR 59244). If the present classification of this species is not consistent with the best scientific and commercial information available at the conclusion of this review, we may propose a change in the listing status of this species. Any change in Federal classification would require a separate rule-making process.

DATES: In order to allow us adequate time to consider your information in this review, we must receive your information no later than September 24, 2004. We also continue to accept information about any listed species at any time.

ADDRESSES: Submit information and questions to the Field Supervisor, Attention Bliss Rapids Snail 5-Year Review, Snake River Fish and Wildlife Office, 1387 S. Vinnell Way, Suite 368, Boise, Idaho 83709. Comments may also be faxed to 208-378-5262, or e-mailed to fw1srbocomment@fws.gov. Please include “Bliss Rapids Snail 5-Year Review Comments” in the title line for faxes and e-mails. Please submit electronic comments in an ASCII file format, and avoid the use of special characters and encryption. Information received in response to this notice and review will be available for public inspection by appointment, during normal business hours, at the above address.

FOR FURTHER INFORMATION CONTACT: Steve Lysne at the above address, by phone at 208/378-5243, or by e-mail at steve_lysne@fws.gov.

SUPPLEMENTARY INFORMATION:

Why is a 5-year Review Conducted?

Section 4(c)(2)(A) of the Act requires that we conduct a review of listed species at least once every 5 years. We are then, under section 4(c)(2)(B) and the provisions of subsections (a) and (b) to determine, on the basis of such review, whether or not any species should be removed from the List (delisted), or reclassified from endangered to threatened, or threatened to endangered. Our regulations at 50 CFR 424.21 require that we publish a notice in the Federal Register announcing those species currently under active review. This notice announces our active review of the Bliss Rapids snail.

What Information is Considered in the Review?

The 5-year review considers all new information available at the time of the review. This review will consider the best scientific and commercial data that has become available since the current listing determination or most recent status review, such as:

A. Species biology including, but not limited to, population trends, distribution, abundance, demographics, and genetics;

B. Habitat conditions including, but not limited to, amount, distribution, and suitability;

C. Conservation measures that have been implemented that benefit the species;

D. Threat status and trends (see five factors under heading “How Do We Determine Whether a Species is Endangered or Threatened?”); and

E. Other new information, data, or corrections including, but not limited to, taxonomic or nomenclatural changes, identification of erroneous information contained in the List, and improved analytical methods.

How is the Bliss Rapids Snail Currently Listed?

The List is found in 50 CFR 17.11 (wildlife) and 17.12 (plants). Amendments to the List through final rules are published in the Federal Register. The List is also available on our Internet site at http://endangered.fws.gov/wildlife.html#Species. In Table 1 below, we provide a summary of the listing information for the Bliss Rapids snail.

Table 1.—Summary of the Listing Information for the Bliss Rapids Snail
Common name | Scientific name | Status | Where listed | Final listing rule
Bliss Rapids snail | Taylorconcha serpenticola | Threatened | U.S.A. (ID) | 57 FR 59244 (14-DEC-92).

Definitions Related to This Notice

The following definitions are provided to assist those persons who contemplate submitting information regarding the status of the species being reviewed:

A. Species includes any species or subspecies of fish, wildlife, or plant, and any distinct population segment of any species of vertebrate, which interbreeds when mature.

B. Endangered means any species that is in danger of extinction throughout all or a significant portion of its range.

C. Threatened means any species that is likely to become an endangered species within the foreseeable future throughout all or a significant portion of its range.

How Do We Determine Whether a Species is Endangered or Threatened?

Section 4(a)(1) of the Act requires that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence.

Our assessment of these factors is required, under section 4(b)(1) of the Act, to be based solely on the best scientific and commercial data available.

What Could Happen as a Result of This Review?

If we find that there is information concerning the Bliss Rapids snail indicating a change in classification may be warranted, we may propose a new rule that could do one of the following: (a) reclassify the species from threatened to endangered; or (b) remove of the species from the List. If we find that a change in classification is not warranted, the Bliss Rapids snail will remain on the List under its current threatened status.

Public Solicitation of New Information

We request any new scientific or commercial information concerning the status of the Bliss Rapids snail. See “What Information is Considered in the Review?” heading above for specific types of information. If possible, this information should be supported by documentation such as maps, a list of bibliographic references, methods used to gather and analyze the data, and/or copies of any pertinent publications, reports, or letters by knowledgeable sources.

Authority: This document is published under the authority of the Endangered Species Act (16 U.S.C. 1531 et seq.).

Dated: June 22, 2004.
William F. Shake,
Acting Regional Director, Region 1, U. S. Fish and Wildlife Service.

[FR Doc. 04-16988 Filed 7-26-04; 8:45 am]

BILLING CODE 4310-55-P